DEPARTMENT OF HOUSING AND URBAN DEVELOPMENT

[Docket No. FR-7076-N-02]

60-Day Notice of Proposed Information Collection: Public Housing Capital Fund Program; OMB Control No.: 2577-0157

AGENCY: Office of the Assistant Secretary for Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 17, 2023.

ADDRESSES: Interested persons are invited to submit comments regarding this proposal.

Written comments and recommendations for the proposed information collection can be sent within 60 days of publication of this notice to OIRA_submission@omb.eop.gov or www.reginfo.gov/public/do/PRAMain. Find this particular information collection by selecting “Currently under 60-day Review—Open for Public Comments” or by using the search function.

Interested persons are also invited to submit comments regarding this proposal by name and/or OMB Control Number and can be sent to: Colette Pollard, Reports Management Officer, REE, Department of Housing and Urban Development, 451 7th Street SW, Room 4176, Washington, DC 20410-5000; telephone 202-402-3400 (this is not a toll-free number) or email at Colette.Pollard@hud.gov for a copy of the proposed forms or other available information.

FOR FURTHER INFORMATION CONTACT: Erica Mahoney, Office of Policy, Programs and Legislative Initiatives, PIH, Department of Housing and Urban Development, 451 7th Street SW, (L'Enfant Plaza, Room 2206), Washington, DC 20410; telephone 202-402-4109, (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Mahoney.

SUPPLEMENTARY INFORMATION: This notice informs the public that HUD is seeking approval from OMB for the information collection described in section A.

A. Overview of Information Collection

Title of Information Collection: Public Housing Capital Fund Program.

OMB Approval Number: 2577-0157.

Type of Request: Extension of currently approved collection.

Form Numbers: HUD Form 50075.1, HUD-5084, HUD-5087, HUD-51000, HUD-51001, HUD-51002, HUD-51003, HUD-5104, HUD-51915, HUD-51915-A, HUD-51971-I-II, HUD-52396, HUD-52427, HUD-52482, HUD-52483-A, HUD-52484, HUD-52485, HUD-52651-A, HUD-52829, HUD-52830, HUD-52833, HUD-52845, HUD-52846, HUD-52847, HUD-52849, HUD-53001, HUD-53015, HUD-5370, HUD-5370EZ, HUD-5370C, HUD-5372, HUD-5378, HUD-5460, HUD-52828, 50071, 5370-C1, 5370-C2.

Description of the need for the information and proposed use: Each year Congress appropriates funds to approximately 3,015 Public Housing Authorities (PHAs) for modernization, development, financing, and management improvements. The funds are allocated based on a complex formula. The forms in this collection are used to appropriately disburse and utilize the funds provided to PHAs. Additionally, these forms provide the information necessary to approve a financing transaction in addition to any Capital Fund Financing transactions. Respondents include the approximately 3,015 PHA receiving Capital Funds and any other PHAs wishing to pursue financing.

Respondents: Public Housing Authorities.

Information collection | Number of respondents | Frequency of response | Responses per annum | Burden hour per response | Annual burden hours | Hourly cost per response | Annual cost
HUD-5084 | 3,015 | 1 | 3,015 | 1.5 | 4,522.50 | $34 | $153,765
HUD-5087 | 50 | 1 | 50 | 3 | 150 | 56 | 8,400
HUD-50071 | 10 | 1 | 10 | 0.5 | 5 | 56 | 280
HUD-50075.1 | 300 | 1 | 300 | 2.2 | 660 | 34 | 204,600
HUD-51000 | 590 | 1 | 590 | 1 | 590 | 34 | 20,600
HUD-51001 | 2,550 | 12 | 30,600 | 3.5 | 107,100 | 34 | 3,641,000
HUD-51002 | 1,600 | 5 | 8,000 | 1 | 8,000 | 34 | 272,000
HUD-51003 | 500 | 2 | 1,000 | 1.5 | 1,500 | 34 | 51,000
HUD-51004 | 500 | 2 | 1,000 | 2.5 | 2,500 | 34 | 85,000
HUD-51915 and HUD-51915-A | 2,630 | 1 | 2,630 | 3 | 7,890 | 34 | 268,260
HUD-51971-I, II | 80 | 1 | 80 | 1.5 | 120 | 34 | 4,080
HUD-52396 | 96 | 1 | 96 | 2 | 192 | 34 | 6,528
HUD-52427 | 88 | 1 | 88 | 0.5 | 44 | 34 | 1,496
HUD-52482 | 40 | 1 | 40 | 2 | 80 | 34 | 2,720
HUD-52483-A | 40 | 1 | 40 | 2 | 80 | 34 | 2,720
HUD-52484 | 532 | 4 | 2,128 | 10 | 21,280 | 34 | 723,520
HUD-52485 | 40 | 1 | 40 | 1 | 40 | 34 | 1,360
HUD-52651-A | 40 | 1 | 40 | 2.5 | 100 | 34 | 3,400
HUD-52829 | 25 | 1 | 25 | 40 | 1000 | 56 | 56,000
HUD-52830 | 25 | 1 | 25 | 16 | 400 | 56 | 22,400
HUD-52833 | 3,015 | 1 | 3,015 | 13 | 30,915 | 34 | 1,332,630
HUD-52836 | 10 | 1 | 10 | 0.5 |  | 56 | 280
HUD-52845 | 25 | 1 | 25 | 8 | 200 | 56 | 11,200
HUD-52846 | 25 | 1 | 25 | 16 | 400 | 56 | 22,400
HUD-52847 | 25 | 1 | 25 | 8 | 200 | 56 | 11,200
HUD-52849 | 25 | 1 | 25 | 1 | 25 | 56 | 1,400
HUD-53001 | 3,015 | 1 | 3,015 | 2.5 | 7,537 | 34 | 256,275
HUD-53015 | 40 | 1 | 40 | 3 | 120 | 34 | 4,080
HUD-5370, 5370EZ | 2,694 | 1 | 2,694 | 1 | 2,694 | 34 | 91,596
HUD-5370C | 2,694 | 1 | 2,694 | 1 | 2,694 | 34 | 91,596
HUD-5372 | 590 | 1 | 590 | 1 | 590 | 34 | 20,060
HUD-5378 | 158 | 24 | 3,792 | 0.25 | 948 | 34 | 32,232
HUD-5460 | 40 | 1 | 40 | 1 | 40 | 34 | 1,360
Public Housing Information Center Certification of Accuracy | 3,015 | 1 | 3,015 | 2 | 6,030.00 | 34 | 186,000
HUD-52828 Physical Needs Assessment form | 3,015 | 1 | 3,015 | 15.4 | 46,431 | 56 | 2,600,136
Broadband Feasibility determination | 3,015 | 1 | 3,015 | 10 | 30,150 | 56 | 1,688,400
Totals |  |  |  |  | −293,593.00 |  | 11,716,694

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Steven Durham,
Acting Chief, Office of Policy, Programs and Legislative Initiatives.

[FR Doc. 2023-03087 Filed 2-13-23; 8:45 am]

BILLING CODE 4210-67-P